DEPARTMENT OF STATE

[Public Notice 4895]

Request for Proposals: Program for Research and Training on Eastern Europe and the Independent States of the Former Soviet Union (Title VIII)

Summary: The Department of State invites organizations with substantial and wide-reaching experience in administering research and training programs to serve as intermediaries conducting nationwide competitive programs for scholars, students and institutions pertaining to advanced research and language training on the countries of Southeast Europe and Eurasia. U.S.-based public and private nonprofit organizations and educational institutions may submit proposals to carry out Title VIII-funded programs that (1) support and sustain American expertise on the countries of Eurasia and Southeast Europe, (2) bring American expertise to the service of the U.S. Government, and (3) further U.S. foreign assistance goals. The grants will be awarded through an open, merit-based competition. The purpose of this request for proposals is to inform potential applicant organizations of programmatic, procedural and funding information for the fiscal year 2005 Title VIII grants competition.

We request that applicants read the entire Federal Register announcement before addressing inquiries to the Title VIII Program Office or submitting a proposal. This notice contains three parts. Part I addresses Shipment and Deadline for Proposals. Part II consists of a Statement of Purpose and Program Priorities. Part III provides Funding Information for the program.

Authority: Grantmaking authority for the Program for Research and Training on Eastern Europe and the Independent States of the Former Soviet Union (Title VIII) is contained in the Soviet-Eastern European Research and Training Act of 1983 (22 U.S.C. 4501-4508, as amended) and is funded through the FREEDOM Support Act (FSA) of 1992 and Support for East European Democracy (SEED) Act of 1992.

Part I

Shipping and Deadline for Proposals: Due to security procedures proposals must be sent via a nationally recognized overnight delivery service (i.e., DHL, Federal Express, UPS, Airborne Express, or USPS Express Mail, etc.) or hand-delivered. Proposals may not be sent by regular U.S. Mail.

Proposals sent by USPS Express Mail or overnight delivery service must have a postmark or invoice dated by Friday, January 28, 2005 and must be received within seven (7) days after the deadline. Hand-delivered proposals must be submitted no later than 4 p.m. on January 28, 2005. Faxed proposals will not be accepted at any time. Late applications will not be considered. It is the applicant's responsibility to ensure that proposals are delivered on time.

Address proposals to: Maria Seda-Gaztambide, Title VIII Program Assistant, U.S. Department of State, INR/RES, Room 2251, 2201 C Street, NW., Washington, DC 20520-6510.

Applications Delivered by Hand: Hand-delivered proposals will be accepted between 9 a.m. and 4 p.m. EST daily, except Saturdays, Sundays and Federal holidays. Proposals must be brought to the State Department's 21st Street entrance, just north of the intersection with C Street, NW. Contact Maria Seda-Gaztambide at (202) 736-4572 to arrange delivery time.

Part II

Program Information: In the Soviet-Eastern European Research and Training Act of 1983 (Title VIII), the Congress declared that independently verified factual knowledge about the countries of that area is “of utmost importance for the national security of the United States, for the furtherance of our national interests in the conduct of foreign relations, and for the prudent management of our domestic affairs.” Congress also declared that the development and maintenance of such knowledge and expertise “depends upon the national capability for advanced research by highly trained and experienced specialists, available for service in and out of Government.”

The Title VIII Program provides financial support for advanced research, graduate and language training and other related functions on the countries of the region. The program operates on a “pass-through” basis in that grantee organizations serve as intermediaries and conduct nationwide competitive programs to distribute grant funds to individual scholars, language students or universities. The program's goal is to support and sustain a cadre of U.S. experts by providing a full spectrum of financial assistance spanning the careers of scholars and students who have made, or are likely to make, a career commitment to the study of Southeast Europe and Eurasia. The Department of State's Title VIII Program Office brings this research and expertise to the service of the U.S. Government. The Title VIII Program also contributes to the overall objectives of the FREEDOM Support and SEED Acts through the Title VIII scholars' and students' participation in interactive educational and professional activities, volunteering, consulting, and other endeavors that further economic prosperity and mutual understanding in the region. The full purpose of the Title VIII Program and the eligibility requirements are set forth in Pub. L. 98-164, 97 Stat. 1047-50, as amended.

The following countries are eligible for funding under this request for proposals: Albania, Armenia, Azerbaijan, Belarus, Bosnia and Herzegovina, Bulgaria, Croatia, Republic of Macedonia, Georgia, Kazakhstan, Kyrgyzstan, Moldova, Romania, Russia, Serbia and Montenegro, Tajikistan, Turkmenistan, Ukraine and Uzbekistan. Travel to certain countries may be subject to restrictions due to unforeseen world events, Congressional restrictions, U.S. embassy requirements, or general security concerns.

The Act established an Advisory Committee to recommend grant policies and recipients. The Deputy Secretary of State, after consultation with the Advisory Committee, approves policies and makes the final determination on awards. Once the proposal submission deadline has passed, Title VIII Program staff and the Title VIII Advisory Committee may not discuss any aspect of this competition with applicants until after the proposal review and approval process has been completed.

Eligibility: U.S.-based public and private non-profit organizations and educational institutions with substantial and wide-reaching expertise in administering advanced research and training programs and conducting nationwide competitive programs for scholars, students and institutions pertaining to advanced research and language training on the countries of Southeast Europe and Eurasia and related fields may apply. To demonstrate eligibility, applicant organizations should describe their experience and expertise in each of the following:

—Conducting national, open, merit-based competitions for the purpose of distributing grant funds for advanced research and language training at the graduate level and above;

—Peer review mechanisms; and

—Recruiting individuals who are likely to make a career commitment to the study of Eastern Europe and/or Eurasia;

—Bringing American expertise to the service of the U.S. Government.

NB: Individual scholars and students seeking Title VIII support should refer to the Title VIII Program website for funding opportunities: http://www.state.gov/s/inr/grants. Proposals from institutions or organizations to fund their own projects, i.e., projects that are not national in scope and/or do not involve open, merit-based recruitment of participants will not be considered.

Scope: The Title VIII legislation states that the program should develop a stable, long-term, national program of unclassified, advanced research and training on the countries of Eastern Europe and/or Eurasia. Applicants' proposals should outline programs that: (1) Support and sustain American expertise on the countries of Eurasia and Southeast Europe, (2) bring American expertise to the service of the U.S. Government, and (3) further U.S. foreign assistance goals.

Guidelines: Programs should be national in scope and may:

(1) Award contracts or grants to U.S. institutions of higher education or nonprofit organizations in support of post-doctoral or equivalent-level research projects, to be cost-shared with partner institutions;

(2) Offer graduate, post-doctoral and teaching fellowships for advanced training on the countries of Southeast Europe and Eurasia, and in related studies, including training in the languages of the region, to be cost-shared with partner institutions;

(3) Provide fellowships and other support for American specialists enabling them to conduct advanced research on the countries of Southeast Europe and Eurasia, and in related studies;

(4) Facilitate research collaboration among U.S. scholars, the U.S. Government, and private specialists on Southeast Europe and Eurasia studies;

(5) Provide field-strengthening activities that stimulate interaction and sustained relationships among junior and senior scholars;

(6) Provide advanced training and research in the countries of Southeast Europe and Eurasia by facilitating access for American specialists to research facilities and resources in those countries;

(7) Facilitate the dissemination of research findings, methods and data among U.S. Government agencies and the public;

(8) Strengthen the national capability for advanced research or training on the countries of Southeast Europe and Eurasia; and

(9) Bring Title VIII scholarship to the service of the U.S. Government in ways not specified above.

In addition to the above guidelines, support for specific activities will be guided by the following policies and priorities:

• Support for Transitions and U.S. Assistance Goals: Program activities are strongly encouraged that build expertise among U.S. specialists on the region, and also: (1) Promote fundamental goals of U.S. foreign assistance programs such as establishing functioning market economies and promoting democratic governance and civil societies, and (2) provide knowledge to both U.S. and foreign audiences related to current U.S. policy interests in the region, broadly defined. This includes, but is not limited to, such topics as resolution of ethnic, religious, and other conflict; terrorism; transition economics; access to information; women's issues; human rights; and citizen participation in politics and civil society. For overseas research, applicants are asked to propose creative means through which individual grant recipients' work may complement assistance activities in the region. Applicants are strongly encouraged to propose programs where grants for overseas work include a service component such as lecturing at a university or participating in workshops with host government and parliamentary officials, nongovernmental organizations, and other relevant audiences on issues related to economic and political transitions.

• Research Topics: The Title VIII Program supports research topics that strengthen the fields of Eurasian and East European Studies, and that address U.S. policy interests in the region, broadly defined. Historical or cultural research that promotes understanding of current events in the region is acceptable if an explicit connection is made to policy relevant issues, broadly defined. Technical research in fields such as mathematics is not appropriate for funding under Title VIII.

• Regional Focus: Priority will be given to programs that focus on gaps in knowledge on Central Asia, the Caucasus, and the Balkans, especially the former Yugoslavia. The greater Central Asia region is critical in the global war on terrorism, therefore also eligible are proposals that incorporate a focus on “Cross-Regional Issues” and include specifically the countries of Kazakhstan, Kyrgyzstan, Tajikistan, Turkmenistan and/or Uzbekistan, relative to their shared historical, ethnic, linguistic, political, economic, and cultural ties with such countries as Iraq, Iran, Afghanistan, Pakistan, Korea, China and Turkey.

• Balanced National Program: In making its recommendations, the Advisory Committee will seek to encourage a coherent, long-term and stable effort directed toward developing and maintaining a national capability on the countries of Southeast Europe and Eurasia. Program proposals can be for the conduct of any of the functions enumerated, but in making its recommendations, the Committee will concern itself particularly with the development of a balanced national effort that will ensure attention to all eligible countries.

• Promoting Federal Service for Title VIII Grant Recipients: Although the Title VIII Program does not require a federal service commitment for individuals receiving funding, the Advisory Committee urges grantees to encourage individuals receiving Title VIII funding to pursue U.S. Government career opportunities, internships, or short-term sabbaticals after completing their awards. Grant recipient organizations are encouraged to: (1) Identify individuals for funding who have an interest in pursuing careers in the U.S. Government, and (2) provide opportunities for individuals in disciplines with Eurasian and/or Southeast European studies concentrations to serve on a temporary basis as a policy or other expert in U.S. Embassies, U.S. Government agencies and/or with NGOs in the region. Applications proposing more productive interaction among U.S. Government agencies, universities and non-government organizations (NGOs) in the U.S. and overseas are strongly encouraged.

• Publications: Funds awarded in this competition should not be used to subsidize journals, newsletters and other periodical publications.

• Conferences: Proposals to fund conferences will be considered for funding only if the conference is an interactive, field-strengthening activity and if it is a component of a larger program with greater duration and scope. Conference panelists must be selected through an open, merit-based selection process. In addition, conference proposals will be assessed according to their relative contribution to the advancement of knowledge and to the professional development of cadres in the fields, and will be competed and evaluated against research, fellowship or other proposals for achieving the objectives of this grant competition.

• Language Support: The Advisory Committee encourages a focus on the non-Russian languages of Eurasia and the less-commonly-taught languages of Southeast Europe. For Russian-language instruction/study, support may be provided only at the advanced level. Institutions seeking funding in order to offer language instruction are encouraged to apply to one or more of the national programs with appropriate peer review and selection mechanisms.

• Support for Non-Americans: The purpose of the program is to build and sustain U.S. expertise on the countries of Southeast Europe and Eurasia. Therefore, the Advisory Committee has determined that highest priority for support always should go to American specialists (i.e., U.S. citizens or permanent residents). Support for such activities as long-term research fellowships (i.e., nine months or longer), should be restricted solely to American scholars. Support for short-term activities also should be restricted to Americans, except in special instances where the participation of a non-American scholar has clear and demonstrable benefits to the U.S. scholarly community and/or the U.S. Government. In such special instances, the applicant will be required to justify the expenditure and notify the Title VIII Program office prior to the activity. Despite this restriction on support for non-Americans, collaborative projects are encouraged—where the non-American component is funded from other sources—and priority is given to institutions whose programs contain such an international component.

• Cost-sharing: (1) Title VIII legislation requires cost-sharing for projects involving post-doctoral or equivalent-level research projects; and graduate, post-doctoral and teaching fellowships for advanced training or language studies for institutions or individuals. Cost sharing is strongly encouraged in all programs. (2) Research solely on, and/or travel to, the countries of “greater Central Asia” or Central and East Europe outside of Southeast Europe as outlined in this request for proposals, is not eligible for FSA or SEED funding. Proposals may include a plan to support research projects on, and travel to, countries eligible and ineligible for FSA or SEED funding, to address cross-border issues, regional or comparative studies, etc., in which case travel to ineligible countries would be cost-shared with funding from other sources. (3) All proposed cost sharing should be included in the budget request in a separate column, and explained in the budget notes. The basis for determining the value of cash and in-kind contributions must be in accordance with OMB Circular A-110, (Revised), Subpart C.23—Cost Sharing and Matching.

• Program Data Requirements: Organizations awarded grants will be required to provide data on program participants and activities in an electronically accessible format for the Title VIII Alumni Database. Requested information would include the following: Name; Institution; Address; Contact Information; Field(s) of Expertise; Type/Title of Award; Location(s) of Research, Fellowship, or other Activity; Research Products/Titles; Service to the U.S. Government; Contribution to U.S. Assistance Goals; etc.

• Reporting and Funding Acknowledgement: Successful applicants will be required to submit quarterly financial and program reports, and will be expected to acknowledge the Department of State and the Title VIII Program in all Title VIII-supported research products, advertising, recruitment tools, announcements, and other related electronic or written communications.

Applications

Application Format: Applicants must submit 10 copies of the proposal (a clearly marked original and 9 copies) in Times New Roman, 12-point font. The “Executive Summary,” “Proposal Narrative,” “Budget Presentation” and “Resumes” must be submitted on a PC-formatted disk or CD. Proposals should include the following elements:

TAB 1: SF424 “Application for Federal Assistance” and Cover Letter with primary point of contact for questions if different than “Authorized Representative.” SF424 is online: (http://www.whitehouse.gov/omb/grants/sf424.pdf);

TAB 2: Executive Summary (one page, single-spaced—see below);

TAB 3: Proposal Narrative (not to exceed 20 double-spaced pages), and calendar or timeline of major program activities;

TAB 4: Budget Presentation (Detailed Budget, Budget Notes, and Budget Summary—see below for explanation);

TAB 5: Resumes (one page, key professional staff);

TAB 6: Letters of Support and/or Partnership; and

TAB 7: Certifications of Compliance with Federal Regulations (see below).

Applicants may append other information they consider essential, although bulky submissions are discouraged and run the risk of not being reviewed fully.

Executive Summary: A one page, single-spaced summary to include: two separate dollar figures indicating the amount of funding requested for Eurasia and Southeast Europe, respectively; a list of each proposed program component in priority order; and any additional information the applicant wishes to provide.

Budget: Because funds will be appropriated separately for Southeast Europe (SEED) and Eurasia (FSA) programs, proposals and budgets must delineate how the requested funds will be distributed by region, country (to the extent possible), and activity. Successful grant recipients will be required to report expenditures by region, country and activity. Applicants must provide the following Budget Presentation* (*budget templates are available by request from the Title VIII Program Office):

(1) Summary Budget, with one column each for the following: (1) DOS/Title VIII Costs; (2) Applicant Cost Sharing; (3) Third Party Cost Sharing, if applicable; and (4) Total Costs, with the following headings:

Southeast Europe (SEED)

Program Costs

Administrative Costs

TOTAL Southeast Europe

Eurasia (FSA)

Program Costs

Administrative Costs

TOTAL Eurasia

SEED + FSA Totals

TOTAL Program Costs (SEED + FSA)

TOTAL Administrative Costs (SEED + FSA)

(Percentage Of Total Admin Costs To Total Requested Funding:%)

TOTAL COSTS (SEED + FSA)

(2) Detailed Line-Item Budget with one column each for the following: (1) DOS/Title VIII Costs; (2) Applicant Cost Sharing; (3) Third Party Cost Sharing, if applicable; and (4) Total Costs. The budget must include the headings “Program Costs” and “Administrative Costs,” and both administrative and program costs must be listed separately according to region (Eurasia or Southeast Europe). Sub-budgets for each separate program component, phase, location or activity should be included to provide clarification. Administrative Costs include the following: “Staff Requirements” (each position should be listed as a separate line item with annual salary x percentage of time x number of months devoted to program), “Benefits,” “Direct Costs,” and “Indirect Costs.” Indirect costs are limited to 10 percent of total direct program costs. The “Total Amount Requested” should be the sum of the amount requested for Eurasia activities plus the amount requested for Southeast Europe activities.

(3) Budget Notes should clarify each line item, as necessary. Explain cost sharing with appropriate details and cross-references to the budget request.

(4) For applicants requesting funds to supplement a program having other sources of funding, submit a current budget for the total program and an estimated future budget for it, showing how specific lines in the budget would be affected by the allocation of requested grant funds. Other funding sources and amounts should be identified.

(5) Append the most recent audit report (the most recent U.S. Government audit report, if available) and the name, address, and point of contact of the audit agency.

(6) Include a prioritized list of proposed programs if funding is being requested for more than one program or activity.

All payments will be made to grant recipients through the U.S. Government's Payment Management System (PMS). Applicants should familiarize themselves with Department of State grant regulations contained in 22 CFR 145, “Grants and Cooperative Agreements with Institutions of Higher Education, Hospitals, and Other Non-Profit Organizations”; 22 CFR 137; OMB Circular A-110, “Uniform Administrative Requirements for Grants and Agreements with Institutions of Higher Education, Hospitals, and Other Non-Profit Organizations”; and OMB Circular A-133, “Audits of Institutions of Higher Learning and Other Non-Profit Institutions.” Organizations can receive a DUNS number at no cost: call the toll-free DUNS Number request line at (866) 705-5711 or apply online at http://www.dnb.com/us/duns_update/.

Proposal Narrative: The Applicant must describe the proposed programs, in no more than 20 double-spaced pages, including the benefits of these programs for the Southeast European and Eurasian fields, estimates of the types and amounts of anticipated awards, peer review procedures, recruitment plan for open, merit-based selection of participants with detailed information about advertising of program opportunities to eligible individuals and/or institutions, and anticipated selection committee participants. The narrative should address the applicant's plan to encourage policy relevant research, methods for dissemination of research products, and plans for bringing Title VIII to the service of the U.S. Government, where applicable.

Applicants who have received previous grants from the Title VIII Program should provide the following detailed information: names/affiliations of individual and institutional award recipients and amounts and types of awards from the past year; and a summary of the applicant's past grants under the Title VIII Program specifying both past and anticipated applicant to award ratios.

Proposals from national organizations involving language instruction programs should provide information on programs supported in the past year, including: indications of progress achieved by Title VIII-funded students; criteria for evaluation, including levels of instruction, degrees of intensiveness, facilities, and methods for measuring language proficiency (including pre- and post-testing); instructors' qualifications; and budget information showing estimated costs per student.

Certifications: Applicants must include three Certifications of Compliance with Federal Regulations. These forms are available online at: http://www.state.gov/m/a/dir/c6606.htm. (a) DS-2012 Certification Regarding Drug-Free Workplace Requirements for Grantees Other Than Individuals; (b) DS-2015 Certification Regarding Debarment, Suspension and Other Responsibility Matters for Lower Tier and Primary Covered Transactions; and (c) DS-2018 New Restrictions on Lobbying.

Review Process: the program office, a grant review panel and the Title VIII Advisory Committee will review all eligible proposals. Proposals also may be reviewed by the Office of the Legal Advisor or by other Department elements. Final funding decisions are at the discretion of the Department of State's Deputy Secretary. Final technical authority for grants resides with the Department of State's Grants Officers.

Review Criteria: Technically eligible proposals will be competitively reviewed according to the following criteria:

(1) Quality of the Program Idea: Proposals should be responsive to the guidelines provided in this request for proposals, and should exhibit originality, substance, precision, and relevance to the State Department's mission, the legislation supporting the Title VIII Program, and the FREEDOM Support and SEED Acts.

(2) Program Plan: Program objectives should be stated clearly. Objectives should respond to priorities and address gaps in knowledge for particular fields and/or regions. A calendar or timeline of major program activities should be included. Responsibilities of partner organizations, if any, should be described clearly.

(3) Institutional Capacity: Proposed personnel and selection committees should be adequate and appropriate to achieve the program's goals. The proposal should reflect the applicant's expertise and knowledge in conducting national competitive award programs of the type the applicant proposes on the countries of Southeast Europe and/or Eurasia. Past performance of prior recipients and the demonstrated potential of new applicants will be considered.

(4) Cost-Effectiveness and Cost Sharing: Administrative costs in the proposal budget should be kept to a minimum. All other items should be necessary and appropriate. Proposals should maximize cost sharing, including in-kind assistance, through contributions from the applicant, partner organizations, as well as other private sector support. “Applicant Cost-Sharing” and “Third Party Cost Sharing” should be included as separate columns in the budget request. Proposal budgets that do not provide cost sharing will be deemed less competitive in this category.

(5) Evaluation, Monitoring, Database, Reporting: Proposals should include a plan to evaluate and monitor program successes and challenges. Methods for linking outcomes to program objectives are recommended. The proposal should address the applicant's willingness and ability to contribute to the alumni database.

Part III

Available Funds: Funding for this program is subject to final Congressional action and the appropriation of FY 2005 funds. Funding may be available at a level of approximately $5.0 million. In Fiscal Year 2004, the program was funded at $5.0 million from the FREEDOM Support and SEED Acts, which funded grants to nine national organizations. The number of awards may vary each year, depending on the level of funding and the quality of the applications submitted.

The Department legally cannot commit funds that may be appropriated in subsequent fiscal years. Thus multi-year projects cannot receive assured funding unless such funding is supplied out of a single year's appropriation. Grant agreements may permit the expenditure from a particular year's grant to be made up to three years after the grant's effective date.

The terms and conditions published in this Request for Proposals are binding and may not be modified by any Department representative. Issuance of the Request for Proposals does not constitute an award commitment on the part of the U.S. Government. The Department reserves the right to reduce, revise, or increase proposal budgets in accordance with the needs of the program and the availability of funds.

Further Information: For further information or to arrange a consultation, contact Maria Seda-Gaztambide, Title VIII Program Assistant, by e-mail: Seda-GaztambideMM@state.gov.

Kenneth E. Roberts,
Executive Director, Advisory Committee for Studies of Eastern Europe and the Independent States of the Former Soviet Union, Department of State.

[FR Doc. 04-26506 Filed 11-30-04; 8:45 am]

BILLING CODE 4710-32-P